NATIONAL AERONAUTICS AND SPACE ADMINISTRATION

[Notice (05-139)]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATES: September 16, 2005.

FOR FURTHER INFORMATION CONTACT: David Walker, Patent Counsel, Goddard Space Flight Center, Mail Code 140.1, Greenbelt, MD 20771-0001; telephone (301) 286-7351; fax (301) 286-9502.

NASA Case No. GSC-14561-1: Screw Locking Wrench;

NASA Case No. GSC-14657-1: Evolvable Synthetic Neural System;

NASA Case No. GSC-14762-1: Reconfigurable Structure;

NASA Case No. GSC-14603-1: Anti-Backlash Gear-Bearings;

NASA Case No. GSC-15002-1: Method And Associated Apparatus For Capturing, Servicing, And De-Orbiting Earth Satellites Using Robotics;

NASA Case No. GSC-14525-2: Passive Gas-Gap Heat Switch For Adiabatic Demagnetization Refrigerator;

NASA Case No. GSC-14648-1: Charge Dissipative Electrical Interconnect.

Dated: September 12, 2005.
Keith T. Sefton,
Deputy General Counsel, Administration and Management.

[FR Doc. 05-18449 Filed 9-15-05; 8:45 am]

BILLING CODE 7510-13-P